DEPARTMENT OF COMMERCE

National Oceanic and Atmospheric Administration

[I.D. 121203C]

Vessel Monitoring Systems (VMS); Certification of New VMS Unit for Use in Northeast Fisheries

AGENCY: National Marine Fisheries Service (NMFS), National Oceanic and Atmospheric Administration (NOAA), Commerce.

ACTION: Notice of VMS unit certification.

SUMMARY: NMFS announces the approval and certification of the Boatracs FMCT/G (Fisheries Mobile Communications Transceiver/Global Positioning System (GPS) based) VMS unit for use in all fisheries in the northeastern United States in which VMS units are required.

DATES: This new FMCT/G VMS unit can be used effective December 23, 2003.

FOR FURTHER INFORMATION CONTACT: Northeast Office for Law Enforcement, VMS Program, telephone 978-281-9213.

SUPPLEMENTARY INFORMATION: Regulations at 50 CFR 648.9 set forth VMS requirements for fisheries in the northeastern United States that require the use of VMS for fishery monitoring and/or reporting. Specifically, § 648.9(b) lists minimum VMS performance criteria that a VMS unit must meet in order to be certified for use.

The Administrator, Northeast Region, NMFS, has reviewed all components of the FMCT/G and other information provided by the vendor and has certified the following unit for use in all Northeast fisheries in which VMS units are required: Boatracs FMCT/G, available from Boatracs, 1935 Cordell Court, El Cajon, CA 92020-0911, Telephone: (619) 438-6000,1-800-336-8722.

Authority: 16 U.S.C. 1801 et seq.

Dated: December 16, 2003.
Bruce C. Morehead,
Acting Director, Office of Sustainable Fisheries, National Marine Fisheries Service.

[FR Doc. 03-31613 Filed 12-22-03; 8:45 am]

BILLING CODE 3510-22-S